OFFICE OF MANAGEMENT AND BUDGET

Recommendations From the Metropolitan and Micropolitan Statistical Area Standards Review Committee to the Office of Management and Budget Concerning Changes to the 2000 Standards for Defining Metropolitan and Micropolitan Statistical Areas

AGENCY: Executive Office of the President, Office of Management and Budget (OMB), Office of Information and Regulatory Affairs.

ACTION: Notice and request for comment.

SUMMARY: Under the authority of the Budget and Accounting Procedures Act of 1950 (31 U.S.C. 1104(d)) and the Paperwork Reduction Act of 1995 (44 U.S.C. 3504(e)), the Office of Management and Budget (OMB) requests public comment on the recommendations it has received from the Metropolitan and Micropolitan Statistical Area Standards Review Committee for changes to OMB's metropolitan and micropolitan statistical area standards. The committee's report and recommendations, which are published in their entirety in the Appendix, follow from study of the 2000 standards, published by OMB in the December 27, 2000 Federal Register (65 FR 82227-82238). The committee's work is a key element in OMB's review that will culminate in publication of the 2010 statistical area standards for the next decade. (Decisions on changes to the metropolitan and micropolitan statistical area standards will not affect the collection, tabulation, and publication of data from the 2010 Census and other current Federal data collections for geographic areas such as states, counties, county subdivisions, and municipalities.)

Request for Comments: OMB is seeking comments only on the specific recommendations of the committee for revising the 2000 standards. In addition, OMB would welcome comments on the wording of the recommended 2010 standards to help ensure their clarity and understandability. Comments submitted in response to this notice may be made available to the public, including by posting them on OMB's Web site. For this reason, please do not include in your comments information of a confidential nature, such as sensitive personal information or proprietary information.

Electronic Availability: This notice is available on the Internet from the OMB Web site at http://www.whitehouse.gov/omb/fedreg/2009.aspx. Federal Register notices are also available electronically from the U.S. Government Printing Office Web site at http://www.gpoaccess.gov/fr/index.html.

DATES: To ensure consideration during the decision-making process, OMB must receive all comments in writing on or before April 13, 2009.

ADDRESSES: Comments may be sent to: Katherine K. Wallman, Chief Statistician, Office of Management and Budget, Room 10201 New Executive Office Building, Washington, DC 20503, telephone number (202) 395-3093, fax number (202) 395-7245. E-mail comments may be sent to 2010MetroAreas@omb.eop.gov with the subject 2010 MetroAreas, or via http://www.regulations.gov—a Federal E-Government Web site that allows the public to find, review, and submit comments on documents that agencies have published in the Federal Register and that are open for comment. Simply type “2010 MetroAreas” (in quotes) in the Comment or Submission search box, click Go, and follow the instructions for submitting comments. Comments received with subject “2010 MetroAreas” by the date specified above will be included as part of the official record.

Because of delays in the receipt of regular mail due to security screening, you are encouraged to use electronic communications to transmit your comments to ensure timely receipt.

FOR FURTHER INFORMATION CONTACT: James D. Fitzsimmons, Chair, Metropolitan and Micropolitan Statistical Area Standards Review Committee, telephone number (301) 763-1465; or E-mail pop.fr.notice@census.gov.

SUPPLEMENTARY INFORMATION:

Outline of Notice

1. Background

2. Review Process

3. Overview of Recommendations from the Metropolitan and Micropolitan Statistical Area Standards Review Committee

4. Issues for Comment

Appendix: Report and Recommendations from the Metropolitan and Micropolitan Statistical Area Standards Review Committee to the Office of Management and Budget Concerning Changes to the 2000 Standards for Defining Metropolitan and Micropolitan Statistical Areas

A. Discussion of Recommendations

B. Recommended 2010 Standards for Delineating Metropolitan and Micropolitan Statistical Areas and Key Terms

1. Background

The metropolitan area program has provided standard statistical area delineations for approximately 60 years. In the 1940s, it became clear that the value of metropolitan data produced by Federal agencies would be greatly enhanced if agencies used a single set of geographic delineations for the Nation's largest centers of population and activity. OMB's predecessor, the Bureau of the Budget, led the effort to develop what were then called “standard metropolitan areas” in time for their use in 1950 census publications. Since then, comparable data products for metropolitan areas have been available.

The general concept of a metropolitan statistical area is that of an area containing a large population nucleus and adjacent communities that have a high degree of integration with that nucleus. The concept of a micropolitan statistical area closely parallels that of the metropolitan statistical area, but a micropolitan statistical area features a smaller nucleus. The purpose of these statistical areas is unchanged from when metropolitan areas were first delineated: The classification provides a nationally consistent set of delineations for collecting, tabulating, and publishing Federal statistics for geographic areas.

OMB establishes and maintains these areas solely for statistical purposes. In reviewing and revising these areas, OMB does not take into account or attempt to anticipate any public or private sector nonstatistical uses that may be made of the delineations. These areas are not designed to serve as a general-purpose geographic framework applicable for nonstatistical activities or for use in program funding formulas.

2. Review Process

From the beginning of the program, OMB (or its predecessor) has reviewed the metropolitan (and now micropolitan) statistical area standards and, if warranted, revised them in the years preceding their application to new decennial census data. During the 1990s, OMB conducted a comprehensive review of the 1990 standards, leading to the development of the core based statistical areas (metropolitan and micropolitan statistical areas) and combined statistical areas as contained in the 2000 standards (available at: http://www.whitehouse.gov/omb/fedreg/metroareas122700.pdf). Periodic review of the standards is necessary to ensure their continued usefulness and relevance. The current review of the metropolitan and micropolitan statistical area standards is the sixth such review.

In 2008, OMB charged the Metropolitan and Micropolitan Statistical Area Standards Review Committee with examining the 2000 metropolitan and micropolitan statistical area standards and providing recommendations on the standards scheduled to be issued no later than December 2010. Agencies represented on the review committee include the Census Bureau (Chair), Bureau of Economic Analysis, Bureau of Labor Statistics, Bureau of Transportation Statistics, Economic Research Service, National Center for Health Statistics, and ex officio, OMB. The Census Bureau has provided research support to the committee.

This notice is the first of two anticipated notices related to the review of the 2000 standards. OMB expects to publish the final standards in the second notice no later than December 2010.

3. Overview of Recommendations From the Metropolitan and Micropolitan Statistical Area Standards Review Committee

This Federal Register notice makes available for comment the committee's recommendations to OMB on how the 2000 metropolitan and micropolitan statistical area standards should be revised. These recommendations are presented in their entirety in the “Report and Recommendations from the Metropolitan and Micropolitan Statistical Area Standards Review Committee to the Office of Management and Budget Concerning Changes to the 2000 Standards for Defining Metropolitan and Micropolitan Statistical Areas,” provided in the Appendix to this notice. Section B of the Appendix presents for public comment the specific 2010 standards recommended by the committee for adoption by OMB.

The committee notes that the 2000 standards, which provided for core based statistical areas (CBSAs) and combined statistical areas and were the result of an extensive and comprehensive review of previous standards, have served the Federal statistical community well. Certain aspects of the standards, however, needed to be evaluated in light of experiences from the post-2000 implementation of the standards; these aspects included combined statistical area qualification and titling, and metropolitan and micropolitan statistical area updating.

The committee recommends that the use of local opinion be eliminated in the qualification of metropolitan and micropolitan statistical areas to form combined statistical areas, and that adjacent CBSAs be combined automatically if they possess an employment interchange measure of 15 or higher. (As in the past, areas that are combined would also retain their status as discrete metropolitan or micropolitan statistical areas.) The committee also recommends eliminating local opinion from the combined statistical area titling criteria and instead titling each combined statistical area using the names of the two principal cities with the largest populations, and the name of the third-largest principal city, if present. If the combined statistical area title duplicates that of one of its component CBSAs, the committee recommends dropping the third-most populous principal city name from the title of the combined statistical area.

After the initial redelineation based on the 2010 standards is announced in 2013, the committee recommends that OMB: (1) Limit yearly intercensal updates to the identification of new metropolitan and micropolitan statistical areas (and process certain changes to principal cities such as names and legal status), and (2) conduct an update of the areas in 2018 based on aspects of delineation that can be performed using Census Bureau total population estimates from the Population Estimates Program and commuting and employment 5-year estimates from the American Community Survey. The committee expresses its dissatisfaction with the word “definition” to characterize the boundaries of a particular area and recommends replacing it with the word “delineation.”

4. Issues for Comment

With this notice, OMB requests comment on the recommendations of the Metropolitan and Micropolitan Statistical Area Standards Review Committee concerning revisions to the 2000 standards for defining metropolitan and micropolitan statistical areas. The 2010 standards recommended to OMB for adoption appear in Section B of the Appendix to this notice. Section A of the Appendix provides a discussion of the recommendations for changes to the 2000 standards. To help ensure the clarity of the 2010 recommended standards, OMB would appreciate receiving comments on their wording.

Kevin F. Neyland,
Acting Administrator, Office of Information and Regulatory Affairs.

Appendix: Report and Recommendations From the Metropolitan and Micropolitan Statistical Area Standards Review Committee to the Office of Management and Budget Concerning Changes to the 2000 Standards for Defining Metropolitan and Micropolitan Statistical Areas

[Transmittal Memorandum]

December 19, 2008.

Memorandum for Katherine K. Wallman, Chief Statistician, Office of Management and Budget

From: Metropolitan and Micropolitan Statistical Area Standards Review Committee.

Subject: Transmittal of Report and Recommendations Concerning Changes to the 2000 Standards for Defining Metropolitan and Micropolitan Statistical Areas.

We are pleased to transmit to you the attached report presenting this committee's recommendations for modifying the Office of Management and Budget's (OMB's) 2000 standards for defining metropolitan and micropolitan statistical areas. They represent our best technical and professional advice for how the standards could better account for and describe changes in settlement and activity patterns throughout the United States and Puerto Rico, yet still meet the data reporting needs and requirements of Federal agencies and the public. We also are providing the specific 2010 standards recommended by the committee, including definitions of key terms. We hope that OMB will find these recommendations informative and helpful in making its decision on what changes, if any, to adopt in the standards for defining geographic areas for collecting, tabulating, and publishing Federal statistics.

Attachment

Recommendations From the Metropolitan and Micropolitan Statistical Area Standards Review Committee to the Office of Management and Budget Concerning Changes to the 2000 Standards for Defining Metropolitan and Micropolitan Statistical Areas

A. Discussion of Recommendations

The committee notes that the 2000 standards, the result of an extensive and comprehensive review of the previous, 1990 standards, have served the Federal statistical community well over the past decade. However, the committee determined that aspects of the standards—particularly those concerning combined statistical area qualification and titling, and metropolitan and micropolitan statistical area updating—need to be revised to better serve data users.

1. Recommendations Concerning Combined Statistical Areas

The Metropolitan and Micropolitan Statistical Area Standards Review Committee recommends elimination of the use of local opinion in the qualification of combinations with employment interchange measures between 15 and 25. Adjacent core based statistical areas (CBSAs) should automatically qualify for combination if they possess an employment interchange measure of 15 or higher. The committee also recommends elimination of the use of local opinion in combined statistical area titling; each combined statistical area should be titled using the names of the two principal cities with the largest populations in the combined statistical area, as well as the name of the third-largest principal city, if present.

In the 2000 standards, OMB provided for combined statistical areas to recognize ties between contiguous metropolitan and/or micropolitan statistical areas that are less intense than those captured by mergers, but still significant. (Mergers occur when adjacent CBSAs become a single CBSA because the central county or counties (as a group) of one CBSA qualify as outlying to the central county or counties (as a group) of the other CBSA.) These combinations were based on the employment interchange measure between two CBSAs, defined as the sum of the percentage of commuting from the smaller area to the larger area and the percentage of employment in the smaller area accounted for by workers residing in the larger area.

In reviewing the 2000 standards, the committee noted that combined statistical areas can serve as an important geographic tool for the Federal statistical data community. The committee also observed, however, that under the current system—in which adjacent metropolitan and/or micropolitan statistical areas combine automatically if they meet a specified employment interchange measure of 25 or more, while areas with an interchange measure of less than 25 but at least 15 qualify with the support of local opinion—the universe of combined statistical areas is heterogeneous. This calls into question the comparability of the areas. Applying only statistical rules when delineating areas—the means by which the other statistical areas delineated by OMB currently qualify—minimizes ambiguity and maximizes the replicability, transparency, and integrity of the process. The committee advocated applying only statistical rules, automatically combining all areas with the minimum employment interchange measure of 15.

Under the 2000 standards, local opinion also is used for determining titles for combined statistical areas. The committee argued that just as the qualification of combined statistical areas should be based on the application of statistical rules, so too should combined statistical areas titling. The committee recommended elimination of local opinion from combined statistical area titling and instead recommended titling combined statistical areas in the same manner as their component metropolitan and/or micropolitan statistical areas: The title of a combined statistical area should be based on the names of the two principal cities in the combination with the largest populations, as well as the name of the third-largest principal city, if present. To avoid potential confusion, the committee recommends dropping the name of the third most populous principal city from the title of a combined statistical area if the combined statistical area title duplicates that of one of its component CBSAs.

2. Recommendations Concerning Intercensal Update

The committee recommends that OMB: (1) Limit its yearly updates to the identification of new metropolitan and micropolitan statistical areas (and process certain changes to principal cities such as names and legal status) and (2) conduct an update in 2018 based on those aspects of delineation that can be performed using Census Bureau total population estimates from the Population Estimates Program as well as 5-year commuting and employment estimates from the American Community Survey.

For some purposes, frequent updates of the areas are desirable, but for other purposes stability of the inventory of areas has advantages.

The committee examined the criteria for statistical area updates in the 2000 standards as well as the application of those criteria over the decade. Annual intercensal updates of statistical areas since 2003 have been extensive and have included: (1) Qualification of new micropolitan statistical areas; (2) qualification of new metropolitan statistical areas; (3) qualification of new principal cities; (4) deletion of principal cities; and (5) changes in the titles of metropolitan statistical areas, micropolitan statistical areas, and metropolitan divisions, based on the addition and/or deletion of principal cities as well as changes in the relative population size rankings of principal cities.

The 2000 standards also included criteria for updating areas in 2008 based on American Community Survey 5-year commuting and employment estimates. Given a subsequent change in the American Community Survey production and release schedule, the 2008 update that was described in the 2000 standards could not be implemented.

The committee observed that yearly updates can present potential difficulties to producers and users of metropolitan and micropolitan statistical area data, including the potentially considerable workload that yearly intercensal update coding and titling changes can pose for maintaining large databases. The committee supports a more limited yearly update, identifying only new metropolitan and micropolitan statistical areas.¹ OMB would continue to process changes to principal cities based on changes in their names and legal status. For example, if a principal city disincorporates or changes its name, that would be reflected in the yearly update inventory of principal cities, CBSA titles, and codes.

¹ A metropolitan statistical area that qualifies under the yearly update due a special census or population estimate will not contain an urbanized area as delineated by the Census Bureau. The Census Bureau's Population Estimates Program produces and disseminates the official total population estimates of cities that are used in the update process.

The committee recommends a more comprehensive update of metropolitan and micropolitan and related statistical areas in 2018 based on those parts of delineation that can be conducted using Census Bureau total population estimates from the Population Estimates Program and 5-year commuting and employment estimates from the American Community Survey. The urbanized areas and urban clusters used throughout the 2018 delineation process will be the 2010 Census Bureau-delineated urbanized areas and urban clusters. The central counties of CBSAs identified on the basis of a 2010 Census population count, or on the basis of population estimates or a special census count in the case of intercensally delineated areas, would constitute the central counties for purposes of the 2018 area delineations.

3. Recommendation Concerning the Use of the Word “Definition”

The committee recommends that OMB replace the word “definition” with the word “delineation” in the proposed 2010 standards.

During much of the history of the metropolitan and micropolitan statistical area program, the term “definition” has been used to refer to the boundaries or geographic makeup of an area (e.g., the definition of the Altoona, PA Metropolitan Statistical Area). While the program's use of the term has been consistent, it is not intuitive for those first encountering the program.

The committee noted that while the term “definition” has been used by OMB for several decades, it has caused confusion for some data users. The committee recommends replacing “definition” with “delineation” to reference the geographic boundaries of the statistical areas.

B. Recommended 2010 Standards for Delineating Metropolitan and Micropolitan Statistical Areas and Key Terms

(If approved by the Office of Management and Budget, the proposed standards below will be used to delineate Core Based Statistical Areas beginning in 2013.)

A Core Based Statistical Area (CBSA) is a geographic entity associated with at least one core of 10,000 or more population, plus adjacent territory that has a high degree of social and economic integration with the core as measured by commuting ties. The standards designate and delineate two categories of CBSAs: Metropolitan Statistical Areas and Micropolitan Statistical Areas. The purpose of the Metropolitan and Micropolitan Statistical Area standards is to provide nationally consistent delineations for collecting, tabulating, and publishing Federal statistics for a set of geographic areas. The Office of Management and Budget establishes and maintains these areas solely for statistical purposes. Metropolitan and Micropolitan Statistical Areas are not designed as a general-purpose geographic framework for nonstatistical activities or for use in program funding formulas. The CBSA classification is not an urban-rural classification; Metropolitan and Micropolitan Statistical Areas and many counties outside CBSAs contain both urban and rural populations.

CBSAs consist of counties and equivalent entities throughout the United States and Puerto Rico. In view of the importance of cities and towns in New England, a set of geographic areas similar in concept to the county-based CBSAs also will be delineated for that region using cities and towns. These New England City and Town Areas (NECTAs) are intended for use with statistical data, whenever feasible and appropriate, for New England. Data providers and users desiring areas delineated using a nationally consistent geographic building block should use the county-based CBSAs in New England.

The following criteria apply to both the nationwide county-based CBSAs and to NECTAs, with the exceptions of Sections 7 and 9 in which separate criteria are applied when identifying and titling divisions within NECTAs that contain at least one core of 2.5 million or more population. Wherever the word “county” or “counties” appears in the following criteria (except in Sections 7 and 9), the words “city and town” or “cities and towns” should be substituted, as appropriate, when delineating NECTAs. Commuting and employment estimates are derived from the Census Bureau's American Community Survey.

Section 1. Population Size Requirements for Qualification of Core Based Statistical Areas

Each CBSA must have a Census Bureau delineated urbanized area of at least 50,000 population or a Census Bureau delineated urban cluster of at least 10,000 population. (Urbanized areas and urban clusters are collectively referred to as “urban areas.”)

Section 2. Central Counties

The central county or counties of a CBSA are those counties that:

(a) Have at least 50 percent of their population in urban areas of at least 10,000 population; or

(b) Have within their boundaries a population of at least 5,000 located in a single urban area of at least 10,000 population.

A central county is associated with the urbanized area or urban cluster that accounts for the largest portion of the county's population. The central counties associated with a particular urbanized area or urban cluster are grouped to form a single cluster of central counties for purposes of measuring commuting to and from potentially qualifying outlying counties.

Section 3. Outlying Counties

A county qualifies as an outlying county of a CBSA if it meets the following commuting requirements:

(a) At least 25 percent of the employed residents of the county work in the central county or counties of the CBSA; or

(b) At least 25 percent of the employment in the county is accounted for by workers who reside in the central county or counties of the CBSA.

A county may be included in only one CBSA. If a county qualifies as a central county of one CBSA and as outlying in another, it falls within the CBSA in which it is a central county. A county that qualifies as outlying to multiple CBSAs falls within the CBSA with which it has the strongest commuting tie, as measured by either (a) or (b) above. The counties included in a CBSA must be contiguous; if a county is not contiguous with other counties in the CBSA, it will not fall within the CBSA.

Section 4. Merging of Adjacent Core Based Statistical Areas

Two adjacent CBSAs will merge to form one CBSA if the central county or counties (as a group) of one CBSA qualify as outlying to the central county or counties (as a group) of the other CBSA using the measures and thresholds stated in 3(a) and 3(b) above.

Section 5. Identification of Principal Cities

The Principal City (or Cities) of a CBSA will include:

(a) The largest incorporated place with a 2010 Census population of at least 10,000 in the CBSA or, if no incorporated place of at least 10,000 population is present in the CBSA, the largest incorporated place or census designated place in the CBSA; and

(b) Any additional incorporated place or census designated place with a 2010 Census population of at least 250,000 or in which 100,000 or more persons work; and

(c) Any additional incorporated place or census designated place with a 2010 Census population of at least 50,000, but less than 250,000, and in which the number of jobs meets or exceeds the number of employed residents; and

(d) Any additional incorporated place or census designated place with a 2010 Census population of at least 10,000, but less than 50,000, and one-third the population size of the largest place, and in which the number of jobs meets or exceeds the number of employed residents.

Section 6. Categories and Terminology

A CBSA receives a category based on the population of the largest urban area (urbanized area or urban cluster) within the CBSA. Categories of CBSAs are: Metropolitan Statistical Areas, based on urbanized areas of 50,000 or more population, and Micropolitan Statistical Areas, based on urban clusters of at least 10,000 population but less than 50,000 population. Counties that do not fall within CBSAs will represent “Outside Core Based Statistical Areas.” A NECTA receives a category in a manner similar to a CBSA and is referred to as a Metropolitan NECTA or a Micropolitan NECTA.

Section 7. Divisions of Metropolitan Statistical Areas and New England City and Town Areas

(a) A Metropolitan Statistical Area containing a single urbanized area with a population of at least 2.5 million may be subdivided to form smaller groupings of counties referred to as Metropolitan Divisions. A county qualifies as a “main county” of a Metropolitan Division if 65 percent or more of its employed residents work within the county and the ratio of the number of jobs located in the county to the number of employed residents of the county is at least .75. A county qualifies as a “secondary county” if 50 percent or more, but less than 65 percent, of its employed residents work within the county and the ratio of the number of jobs located in the county to the number of employed residents of the county is at least .75. A main county automatically serves as the basis for a Metropolitan Division. For a secondary county to qualify as the basis for forming a Metropolitan Division, it must join with either a contiguous secondary county or a contiguous main county with which it has the highest employment interchange measure of 15 or more. After all main counties and secondary counties are identified and grouped (if appropriate), each additional county that already has qualified for inclusion in the Metropolitan Statistical Area falls within the Metropolitan Division associated with the main/secondary county or counties with which the county at issue has the highest employment interchange measure. Counties in a Metropolitan Division must be contiguous.

(b) A NECTA containing a single urbanized area with a population of at least 2.5 million may be subdivided to form smaller groupings of cities and towns referred to as NECTA Divisions. A city or town will be a “main city or town” of a NECTA Division if it has a population of 50,000 or more and its highest rate of out-commuting to any other city or town is less than 20 percent. After all main cities and towns have been identified, each remaining city and town in the NECTA will fall within the NECTA Division associated with the city or town with which the one at issue has the highest employment interchange measure. Each NECTA Division must contain a total population of 100,000 or more. Cities and towns first assigned to areas with populations less than 100,000 will be assigned to the qualifying NECTA Division associated with the city or town with which the one at issue has the highest employment interchange measure. Cities and towns within a NECTA Division must be contiguous.

Section 8. Combining Adjacent Core Based Statistical Areas

(a) Any two adjacent CBSAs will form a Combined Statistical Area if the employment interchange measure between the two areas is at least 15.

(b) The CBSAs that combine will continue to be recognized as individual CBSAs within the larger Combined Statistical Areas.

Section 9. Titles of Core Based Statistical Areas, Metropolitan Divisions, New England City and Town Divisions, and Combined Statistical Areas

(a) The title of a CBSA will include the name of its Principal City with the largest 2010 Census population. If there are multiple Principal Cities, the names of the second-largest and (if present) third-largest Principal Cities will appear in the title in order of descending population size. If the Principal City with the largest 2010 Census population is a census designated place, the name of the largest incorporated place of at least 10,000 population that also is a Principal City will appear first in the title followed by the name of the census designated place. If the Principal City with the largest 2010 Census population is a census designated place, and there is no incorporated place of at least 10,000 population that also is a Principal City, the name of that census designated place Principal City will appear first in the title.

(b) The title of a Metropolitan Division will include the name of the Principal City with the largest 2010 Census population located in the Metropolitan Division. If there are multiple Principal Cities, the names of the second-largest and (if present) third-largest Principal Cities will appear in the title in order of descending population size. If there are no Principal Cities located in the Metropolitan Division, the title of the Metropolitan Division will use the names of up to three counties in order of descending population size.

(c) The title of a NECTA Division will include the name of the Principal City with the largest 2010 Census population located in the NECTA Division. If there are multiple Principal Cities, the names of the second-largest and (if present) third-largest Principal Cities will appear in the title in order of descending population size. If there are no Principal Cities located in the NECTA Division, the title of the NECTA Division will use the name of the city or town with the largest population.

(d) The title of a Combined Statistical Area will include the names of the largest two Principal Cities in the combination and the name of the third-largest Principal City, if present. If the Combined Statistical Area title duplicates that of one of its component CBSAs, the third-most populous principal city name will be dropped from the title of the Combined Statistical Area.

(e) Titles also will include the names of any state in which the area is located.

Section 10. Update Schedule

(a) The Office of Management and Budget will delineate CBSAs in 2013 based on Census 2010 data and American Community Survey 5-year estimates.

(b) Each year thereafter, the Office of Management and Budget will designate new Micropolitan Statistical Areas if:

(1) A city that is outside any existing CBSA has a Census Bureau special census count of 10,000 to 49,999 population, or a population estimate of 10,000 to 49,999 population for two consecutive years from the Census Bureau's Population Estimate Program, or

(2) A Census Bureau special census results in the delineation of an urban cluster of 10,000 to 49,999 population that is outside of any existing CBSA.

(c) Also each year thereafter, the Office of Management and Budget will designate new Metropolitan Statistical Areas if:

(1) A city that is outside any existing Metropolitan Statistical Area has a Census Bureau special census count of 50,000 or more population, or a population estimate of 50,000 or more population for two consecutive years from the Census Bureau's Population Estimate Program, or

(2) A Census Bureau special census results in the delineation of a new urbanized area of 50,000 population or more that is outside of any existing Metropolitan Statistical Area.

(d) In the years 2014 through 2017, and 2019, outlying counties of intercensally designated CBSAs will qualify, according to the criteria in Section 3 above, on the basis of American Community Survey 5-year commuting estimates.

(e) The Office of Management and Budget will review the delineations of all existing CBSAs and related statistical areas in 2018 using 5-year commuting and employment estimates from the Census Bureau's American Community Survey. The urbanized areas and urban clusters used in the 2018 delineations will be the 2010 Census Bureau-delineated urbanized areas and urban clusters. The central counties of CBSAs identified on the basis of a 2010 Census population count, or on the basis of population estimates from the Census Bureau's Population Estimate Program or a special census count in the case of intercensally delineated areas, will constitute the central counties for purposes of the 2018 area delineations. New CBSAs will be designated in 2018 on the basis of Census Bureau special census counts or population estimates as described above in sections 10(b) and 10(c); outlying county qualification will be based on 5-year commuting estimates from the American Community Survey.

(f) Other aspects of the Metropolitan and Micropolitan Statistical Area and related Statistical Area delineations are not subject to change between decennial censuses.

Section 11. Definitions of Key Terms

Census designated place—A statistical geographic entity that is equivalent to an incorporated place, delineated for the decennial census, consisting of a locally recognized, unincorporated concentration of population that is identified by name.

Central county—The county or counties of a Core Based Statistical Area containing a substantial portion of an urbanized area or urban cluster or both, and to and from which commuting is measured to determine qualification of outlying counties.

Combined Statistical Area—A geographic entity consisting of two or more adjacent Core Based Statistical Areas (CBSAs) with employment interchange measures of at least 15.

Core—A densely settled concentration of population, comprising either an urbanized area (of 50,000 or more population) or an urban cluster (of 10,000 to 49,999 population) delineated by the Census Bureau, around which a Core Based Statistical Area is delineated.

Core Based Statistical Area (CBSA)—A statistical geographic entity consisting of the county or counties associated with at least one core (urbanized area or urban cluster) of at least 10,000 population, plus adjacent counties having a high degree of social and economic integration with the core as measured through commuting ties with the counties containing the core. Metropolitan and Micropolitan Statistical Areas are the two categories of Core Based Statistical Areas.

Delineation—The establishment of the boundary of a statistical area.

Employment interchange measure—A measure of ties between two adjacent entities. The employment interchange measure is the sum of the percentage of employed residents of the smaller entity who work in the larger entity and the percentage of employment in the smaller entity that is accounted for by workers who reside in the larger entity.

Geographic building block—The geographic unit, such as a county, that constitutes the basic geographic component of a statistical area.

Main city or town—A city or town that acts as an employment center within a New England City and Town Area that has a core with a population of at least 2.5 million. A main city or town serves as the basis for delineating a New England City and Town Area Division.

Main county—A county that acts as an employment center within a Core Based Statistical Area that has a core with a population of at least 2.5 million. A main county serves as the basis for delineating a Metropolitan Division.

Metropolitan Division—A county or group of counties within a Core Based Statistical Area that contains an urbanized area with a population of at least 2.5 million. A Metropolitan Division consists of one or more main/secondary counties that represent an employment center or centers, plus adjacent counties associated with the main/secondary county or counties through commuting ties.

Metropolitan Statistical Area—A Core Based Statistical Area associated with at least one urbanized area that has a population of at least 50,000. The Metropolitan Statistical Area comprises the central county or counties containing the core, plus adjacent outlying counties having a high degree of social and economic integration with the central county or counties as measured through commuting.

Micropolitan Statistical Area—A Core Based Statistical Area associated with at least one urban cluster that has a population of at least 10,000, but less than 50,000. The Micropolitan Statistical Area comprises the central county or counties containing the core, plus adjacent outlying counties having a high degree of social and economic integration with the central county or counties as measured through commuting.

New England City and Town Area (NECTA)—A statistical geographic entity that is delineated using cities and towns as building blocks and that is conceptually similar to the Core Based Statistical Areas in New England (which are delineated using counties as building blocks).

New England City and Town Area (NECTA) Division—A city or town or group of cities and towns within a NECTA that contains an urbanized area with a population of at least 2.5 million. A NECTA Division consists of a main city or town that represents an employment center, plus adjacent cities and towns associated with the main city or town, or with other cities and towns that are in turn associated with the main city or town, through commuting ties.

Outlying county—A county that qualifies for inclusion in a Core Based Statistical Area on the basis of commuting ties with the Core Based Statistical Area's central county or counties.

Outside Core Based Statistical Areas—Counties that do not qualify for inclusion in a Core Based Statistical Area.

Principal City—The largest city of a Core Based Statistical Area, plus additional cities that meet specified statistical criteria.

Secondary county—A county that acts as an employment center in combination with a main county or another secondary county within a Core Based Statistical Area that has a core with a population of at least 2.5 million. A secondary county serves as the basis for delineating a Metropolitan Division, but only when combined with a main county or another secondary county.

Urban area—The generic term used by the Census Bureau to refer collectively to urbanized areas and urban clusters.

Urban cluster—A statistical geographic entity to be defined by the Census Bureau for 2010 Census, consisting of a central place(s) and adjacent densely settled territory that together contain at least 2,500 people. For purposes of delineating Core Based Statistical Areas, only those urban clusters of 10,000 more population are considered.

Urbanized area—A statistical geographic entity defined by the Census Bureau, consisting of a central place(s) and adjacent densely settled territory that together contain at least 50,000 people.

[FR Doc. E9-2978 Filed 2-11-09; 8:45 am]

BILLING CODE 3110-01-P